DEPARTMENT OF DEFENSE

Department of the Army

Jordanian Training for Iraqi Armed Forces

AGENCY: Department of the Army, DoD.

ACTION: Notice.

SUMMARY: An Agreement under 10 U.S.C. 2341 was entered into informally between the Jordanian Armed Forces and the Coalition Military Assistance Training Team on November 11, 2003, in the amount is $71,921,459, and sill be formalized soon. The purpose is to provide for training of Iraqi Armed Forces (IAF) officers and noncommissioned officers (NCOs). The Jordanian Armed Forces will deliver training courses, logistic support, and equipment to IAF officer and NCO candidates. The agency did not seek any other sources. These types of acquisition are excepted from the requirement for full and open competition or a Justification and Approval (J&A) document in lieu thereof (See 10 U.S.C. 2343). This notice is required by, and fulfills the requirements of, Section 2203 of the Emergency Supplemental Appropriations Act for Defense and the Reconstruction of Iraq and Afghanistan, 2004 (Pub. L. 108-106).

FOR FURTHER INFORMATION CONTACT: Ms. Elizabeth Smith, 703-692-9916.

SUPPLEMENTARY INFORMATION: None.

Brenda S. Bowen,
Alternate Army Federal Register Liaison Officer.

[FR Doc. 04-8463 Filed 4-13-04; 8:45 am]

BILLING CODE 3710-08-M